DEPARTMENT OF ENERGY

Federal Energy Regulatory Commission

Combined Notice of Filings #1

Take notice that the Commission received the following electric corporate filings:

Docket Numbers: EC17-134-000.

Applicants: Ameren Illinois Company.

Description: Supplement to June 28, 2017 Application of Ameren Illinois Company for Authorization under Section 203 of the Federal Power Act (revised Attachment N).

Filed Date: 8/4/17.

Accession Number: 20170804-5130.

Comments Due: 5 p.m. ET 8/14/17.

Docket Numbers: EC17-149-000.

Applicants: Bayshore Solar A, LLC.

Description: Application for Authorization under Section 203 of the Federal Power Act the Disposition of Jurisdictional Facilities, Request for Expedited Consideration and Confidential Treatment of Bay Shore Solar A, LLC.

Filed Date: 8/3/17.

Accession Number: 20170803-5179.

Comments Due: 5 p.m. ET 8/24/17.

Docket Numbers: EC17-150-000.

Applicants: Apple Blossom Wind, LLC.

Description: Application for Authorization of Transaction Pursuant to Section 203 of the Federal Power Act and Request of Apple Blossom Wind, LLC.

Filed Date: 8/4/17.

Accession Number: 20170804-5170.

Comments Due: 5 p.m. ET 8/25/17.

Take notice that the Commission received the following exempt wholesale generator filings:

Docket Numbers: EG17-137-000.

Applicants: Techren Solar I LLC.

Description: Notice of Self-Certification of Exempt Wholesale Generator Status of Techren Solar I LLC.

Filed Date: 8/3/17.

Accession Number: 20170803-5195.

Comments Due: 5 p.m. ET 8/24/17.

Take notice that the Commission received the following electric rate filings:

Docket Numbers: ER17-1789-001.

Applicants: Interstate Power and Light Company.

Description: Tariff Amendment: Amendment to IPL Wholesale Tariff Application to be effective 8/8/2017.

Filed Date: 8/4/17.

Accession Number: 20170804-5189.

Comments Due: 5 p.m. ET 8/25/17.

Docket Numbers: ER17-2075-001.

Applicants: Idaho Power Company.

Description: Tariff Amendment: Amendment to EIM Tariff Filing to be effective 1/25/2018.

Filed Date: 8/4/17.

Accession Number: 20170804-5179.

Comments Due: 5 p.m. ET 8/25/17.

Docket Numbers: ER17-2238-000.

Applicants: Nexus Energy Inc.

Description: Baseline eTariff Filing: Nexus Energy Market-based Rate Tariff v1 to be effective 11/1/2017.

Filed Date: 8/4/17.

Accession Number: 20170804-5004.

Comments Due: 5 p.m. ET 8/25/17.

Docket Numbers: ER17-2239-000.

Applicants: NorthWestern Corporation.

Description: Notice of Termination of Transmission Service Agreement No. 19-SD of NorthWestern Corporation.

Filed Date: 8/3/17.

Accession Number: 20170803-5181.

Comments Due: 5 p.m. ET 8/24/17.

Docket Numbers: ER17-2240-000.

Applicants: New York Independent System Operator, Inc.

Description: 205(d) Rate Filing: 205 filing re: Removal of Bunce Creek PARs cost recovery mechanism to be effective 10/3/2017.

Filed Date: 8/4/17.

Accession Number: 20170804-5075.

Comments Due: 5 p.m. ET 8/25/17.

Docket Numbers: ER17-2241-000.

Applicants: PJM Interconnection, L.L.C.

Description: 205(d) Rate Filing: First Revised Service Agreement No. 3903, Queue No. T174/AB1-106 to be effective 7/9/2017.

Filed Date: 8/4/17.

Accession Number: 20170804-5078.

Comments Due: 5 p.m. ET 8/25/17.

Docket Numbers: ER17-2242-000.

Applicants: Southern California Edison Company.

Description: 205(d) Rate Filing: Amended and Restated Silver Peak 55 kV Interconnection Agreement to be effective 8/6/2017.

Filed Date: 8/4/17.

Accession Number: 20170804-5110.

Comments Due: 5 p.m. ET 8/25/17.

Docket Numbers: ER17-2243-000.

Applicants: Public Service Company of Oklahoma.

Description: 205(d) Rate Filing: PSO CSW Operating Companies MBR Concurrence Cancellation to be effective 6/30/2017.

Filed Date: 8/4/17.

Accession Number: 20170804-5141.

Comments Due: 5 p.m. ET 8/25/17.

Docket Numbers: ER17-2244-000.

Applicants: PJM Interconnection, L.L.C.

Description: Tariff Cancellation: Notice of Cancellation of Interconnection Construction Service Agreement No 3460 to be effective 7/12/2017.

Filed Date: 8/4/17.

Accession Number: 20170804-5146.

Comments Due: 5 p.m. ET 8/25/17.

Docket Numbers: ER17-2245-000.

Applicants: Moffett Solar 1, LLC.

Description: Baseline eTariff Filing: Baseline—Market-Based Rate Tariff to be effective 9/1/2017.

Filed Date: 8/4/17.

Accession Number: 20170804-5158.

Comments Due: 5 p.m. ET 8/25/17.

Docket Numbers: ER17-2246-000.

Applicants: Midcontinent Independent System Operator.

Description: § 205(d) Rate Filing: 2017-08-04_Tariff revisions to implement regional cost allocation for TMEPs to be effective 10/4/2017.

Filed Date: 8/4/17.

Accession Number: 20170804-5159.

Comments Due: 5 p.m. ET 8/25/17.

Docket Numbers: ER17-2247-000.

Applicants: PJM Interconnection, L.L.C.

Description: § 205(d) Rate Filing: Original Service Agreement No. 4591, Non-Queue No. NQ143 to be effective 7/7/2017.

Filed Date: 8/4/17.

Accession Number: 20170804-5168.

Comments Due: 5 p.m. ET 8/25/17.

Take notice that the Commission received the following electric securities filings:

Docket Numbers: ES17-51-000.

Applicants: NorthWestern Corporation.

Description: Application for Authorization Under Section 204 of the Federal Power Act to Issue Securities of NorthWestern Corporation.

Filed Date: 8/4/17.

Accession Number: 20170804-5133.

Comments Due: 5 p.m. ET 8/25/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2017.
Nathaniel J. Davis, Sr.,
Deputy Secretary.

[FR Doc. 2017-16877 Filed 8-9-17; 8:45 am]

BILLING CODE 6717-01-P